DEPARTMENT OF STATE

[Public Notice: 6460]

Bureau of Consular Affairs; Changes in Completion of the DS 3035, J-1 Visa Waiver Recommendation Application Form

ACTION: Notice.

SUMMARY: This Public Notice pertains to J-1 Visa Waiver Recommendation Application form DS 3035, used by exchange visitors to start the J-1 visa waiver process and to pay the processing fee for the waiver application. Certain exchange visitors are subject to Section 212(e) of the Immigration and Nationality Act, as amended, and are required to return to their home country for a period of two years or receive a waiver of the requirement. Such exchange visitors are not eligible to receive H, K, or L nonimmigrant visas nor are they eligible for immigrant visas or permanent resident status until they have complied with or received a waiver of the foreign residence requirement. An exchange visitor who wishes to apply for a waiver of the two-year foreign residence requirement starts the waiver process by filling out the DS 3035, J-1 Visa Waiver Recommendation Application which is available on the State Department Bureau of Consular Affairs Web site (http://travel.state.gov), and submits it along with the processing fee to the lock-box address for processing. Currently J-1 visa waiver applicants may type the form online or download the form and complete it manually. When the form is completed online the applicant receives a bar-code page which he/she prints and sends to the lock-box with the processing fee and other required documents.

The data from the bar-code page is scanned into Waiver Review System (WRS) when it is received from the lock-box and automatically opens up a case file for the applicant. Without the bar-code, the Waiver Review Division (VO/L/W) must manually enter the data from the two-page form into its WRS which is time-consuming and lengthens the processing time for waiver applications. Since completing the form online allows VO/L/W to quickly and efficiently scan the data from the bar-code into its database system, the Department will adjust the manner in which exchange visitors are allowed to complete the DS 3035 form. Therefore, effective February 1, 2009, applicants will be required to type and complete the DS 3035 form online. We believe that online only completion of the DS 3035 form will further enhance the waiver process and maintain established processing timelines for waiver applications which ultimately benefit the applicants.

DATES: Effective Date: This Notice will be effective February 1, 2009.

FOR FURTHER INFORMATION CONTACT: Marcia Pryce, Waiver Review Division, U.S. Department of State, 2401 E. St. NW., L-603, Washington, DC 20522, who may be reached at (202) 663-2800.

Dated: December 8, 2008.
Janice L. Jacobs,
Assistant Secretary for Consular Affairs, Department of State.

[FR Doc. E8-30251 Filed 12-18-08; 8:45 am]

BILLING CODE 4710-06-P